DEPARTMENT OF LABOR

Pension and Welfare Benefits Administration

[Exemption Application D-10608 and D-10609]

Withdrawal of Notice of Proposed Exemption Involving the Millcraft Industries Salaried Employees' Pension Plan and the Millcraft Products, Inc. Hourly Employees' Pension Plan (collectively, the Plans); Located in Canonsburg, PA

In the Federal Register dated October 6, 1998 (63 FR 53720), the Department of Labor (the Department) published a notice of proposed exemption from the prohibited transaction restrictions of the Employee Retirement Income Security Act of 1974 and from certain taxes imposed by the Internal Revenue Code of 1986. The notice of proposed exemption, for which retroactive relief had been requested, concerned three cash sales by the Plans of certain third party common stock to Millcraft Industries, Inc., (Millcraft), the sponsor of the Plans and a party in interest.

By letter dated November 3, 2000, Millcraft, its wholly owned subsidiary, Millcraft, Products, Inc., and the trustees of the Plans, informed the Department that they wished to withdraw the notice of proposed exemption.

Accordingly the notice of proposed exemption is hereby withdrawn.

Signed at Washington, D.C., this 20th day of November, 2000.
Ivan L. Strasfeld,
Director of Exemption Determinations, Pension and Welfare Benefits Administration, Department of Labor.

[FR Doc. 00-29972 Filed 11-22-00; 8:45 am]

BILLING CODE 4510-29-P